DEPARTMENT OF COMMERCE

International Trade Administration

[A-533-917]

Certain Paper Shopping Bags From Cambodia, Colombia, India, Malaysia, Portugal, Taiwan, the People's Republic of China, and the Socialist Republic of Vietnam: Antidumping Duty Orders; Correction

AGENCY: Enforcement and Compliance, International Trade Administration, Department of Commerce.

ACTION: Notice; correction.

SUMMARY: The U.S. Department of Commerce (Commerce) published notice in the Federal Register on July 18, 2024 regarding the antidumping duty (AD) orders on certain paper shopping bags (paper bags) from Cambodia, Colombia, India, Malaysia, Portugal, Taiwan, the People's Republic of China (China), and the Socialist Republic of Vietnam (Vietnam). This notice omitted language that subject merchandise produced and exported by Aeroplast Packaging Solution Private Limited; Aero Plast Limited; Aero Business Solutions Private Limited is excluded from the AD order with respect to India. This notice corrects that omission.

FOR FURTHER INFORMATION CONTACT: Nathan Araya, AD/CVD Operations, Office II, Enforcement and Compliance, International Trade Administration, U.S. Department of Commerce, 1401 Constitution Avenue NW, Washington, DC 20230; telephone: (202) 482-3401.

SUPPLEMENTARY INFORMATION:

Background

On July 18, 2024, Commerce published in the Federal Register the AD orders on paper bags from Cambodia, Colombia, India, Malaysia, Portugal, Taiwan, China, and Vietnam.¹ Commerce omitted language that subject merchandise produced and exported by Aeroplast Packaging Solution Private Limited; Aero Plast Limited; Aero Business Solutions Private Limited is excluded from the Order in the “Estimated Weighted-Average Margins” section and “Continuation of Suspension of Liquidation” section.

¹ See Certain Paper Shopping Bags from Cambodia, Colombia, India, Malaysia, Portugal, Taiwan, the People's Republic of China, and the Socialist Republic of Vietnam: Antidumping Duty Orders, 89 FR 58334 (July 18, 2024) (Order).

Correction

In the Federal Register of July 18, 2024, in FR Doc 2024-15746 on page 58334, in the second column, correct the “Continuation of Suspension of Liquidation and Cash Deposits” section to include the following paragraph at the end of that section which was omitted: “Because the estimated weighted-average dumping margin is zero for subject merchandise produced and exported by Aeroplast Packaging Solution Private Limited; Aero Plast Limited; Aero Business Solutions Private Limited, entries of shipments of subject merchandise from this producer/exporter combination are excluded from the antidumping duty order on subject merchandise from India. This exclusion will not be applicable to merchandise exported to the United States by this respondent in any other producer/exporter combination or by third parties that sourced subject merchandise from the excluded producer/exporter combination.”

Additionally, in the Federal Register of July 18, 2024, in FR Doc 2024-15746 on page 58334, correct the table of final results for India to include a footnote as follows:

India: ²

² After the final determination, Commerce directed CBP not to suspend liquidation of entries of subject merchandise produced and exported by Aeroplast Packaging Solution Private Limited; Aero Plast Limited; Aero Business Solutions Private Limited. Subject merchandise from this producer/exporter combination is excluded from the antidumping duty order on India. See “Continuation of Suspension of Liquidation” section, supra.

Producer or exporter | Estimated weighted- average dumping margin (percent) | Cash deposit rate (adjusted for export subsidy offset) (percent)
Aeroplast Packaging Solution Private Limited; Aero Plast Limited; Aero Business Solutions Private Limited | 0.00 | Not Applicable
Kuloday Plastomers Pvt. Ltd | 4.59 | 1.20
Adeera Packaging Pvt. Ltd | 4.59 | 1.20
Amate Products Pvt. Ltd | 4.59 | 1.20
Apex Paper and Plastic and Film | * 53.05 | 49.66
Archies Limited | 4.59 | 1.20
Asha Overseas | * 53.05 | 49.66
Carrywell Packaging Pvt. Ltd | 4.59 | 1.20
Colorbox | 4.59 | 1.20
Dynaflex Private Limited | 4.59 | 1.20
Godhani Exports | * 53.05 | 49.66
Pack Easy Paper Products | * 53.05 | 49.66
Pack Planet Pvt. Ltd | 4.59 | 1.20
Poonam | 4.59 | 1.20
Shriniwas Enterprises | 4.59 | 1.20
Tejaswi Plastic Pvt. Ltd | 4.59 | 1.20
The Velvin Group (DBA Velvin Packaging Solutions Pvt. Ltd. and Velvin Paper Products) | 4.59 | 2.21
Vama Packaging | 4.59 | 1.20
All Others | 4.59 | 1.20
* Rate based on facts available with adverse inferences.

Notification to Interested Parties

This notice is issued and published in accordance with section 736(a) of the Tariff Act of 1930, as amended, and 19 CFR 351.211(b).

Dated: July 18, 2024.
Ryan Majerus,
Deputy Assistant Secretary for Policy and Negotiations, performing the non-exclusive functions and duties of the Assistant Secretary for Enforcement and Compliance.

[FR Doc. 2024-16236 Filed 7-23-24; 8:45 am]

BILLING CODE 3510-DS-P